DEPARTMENT OF DEFENSE

Department of the Army; Corps of Engineers

Intent To Prepare an Environmental Impact Statement for the Proposed Regional Watershed Supply Project in Wyoming and Colorado

AGENCY: Department of the Army, U.S. Army Corps of Engineers, DoD.

ACTION: Notice of intent.

SUMMARY: The U.S. Army Corps of Engineers (COE) is preparing an Environmental Impact Statement (EIS) to analyze the direct, indirect, and cumulative effects of a proposed water supply project in Wyoming and Colorado, referred to as the Regional Watershed Supply Project (RWSP). Construction of the proposed RWSP is expected to require a Clean Water Act Section 404 permit. The Project is proposed by Million Conservation Resource Group (MCRG), which is a private water development group. The RWSP proposes to provide approximately 250,000 acre-feet per year of new annual firm yield to meet a portion of the projected water supply needs of southeastern Wyoming and the Front Range of Colorado on a perpetual basis through 2030 and beyond. The water would be obtained from the Green River Basin as part of the unused portion of water allocated to the States of Wyoming and Colorado under the Upper Colorado River Compact. The RWSP would be a non-Federal project constructed, owned, and operated by MCRG.

DATES: See SUPPLEMENTARY INFORMATION section for meeting dates.

ADDRESSES: See SUPPLEMENTARY INFORMATION section for meeting addresses.

FOR FURTHER INFORMATION CONTACT: Questions and comments regarding the proposed action and EIS should be addressed to Ms. Rena Brand, Project Manager, U.S. Army Corps of Engineers, Denver Regulatory Office, 9307 S. Wadsworth Blvd., Littleton, CO 80128-6901; (303) 979-4120; mcrg.eis@usace.army.mil.

SUPPLEMENTARY INFORMATION: The COE will be conducting public scoping meetings at six locations to describe the Project, preliminary alternatives, the NEPA compliance process, and to solicit input on the issues and alternatives to be evaluated and other related matters. Written comments for scoping will be accepted until May 19, 2009. The COE has prepared a scoping announcement to familiarize agencies, the public and interested organizations regarding the proposed RWSP and potential environmental issues that may be involved. Copies of the scoping announcement will be made available at the public scoping meetings or can be requested by mail.

Scoping meetings will be held on:

1. April 14, 2009, 6:30 to 9 p.m., Green River High School, 1615 Hitching Post Drive, Green River, WY.

2. April 15, 2009, 6:30 to 9 p.m., Uintah High School, 1880 West 500 North, Vernal, UT.

3. April 16, 2009, 6:30 to 9 p.m., Laramie High School, 1257 North 11th Street, Laramie, WY.

4. April 20, 2009, 6:30 to 9 p.m., Fossil Ridge High School, 5400 Ziegler Road, Fort Collins, CO.

5. April 21, 2009, 6:30 to 9 p.m. West High School, 951 Elati Street, Denver, CO.

6. April 22, 2009, 6:30 to 9 p.m. Risley Middle School, 625 N. Monument Ave., Pueblo, CO.

The proponent of the project, MCRG, proposes the following configuration of the RWSP: Two water withdrawal facilities, one on the east side of Flaming Gorge Reservoir in Wyoming and the other on the east bank of the Green River in Wyoming approximately 200 feet downstream of the Seedskadee National Wildlife Refuge; one water treatment storage reservoir located near the Green River intake system; water pipeline system (approximately 560 miles in length and a diameter of 72 to 120 inches) from the two withdrawal points to southeastern Wyoming and the Front Range of Colorado (Wyoming-Colorado State Line to Pueblo); one regulating reservoir located along the western end of the pipeline system; approximately sixteen natural gas-powered pump stations located along the pipeline route; temporary (construction phase) and permanent (operation and maintenance phase) access roads; three water storage/flow-regulation reservoirs (Lake Hattie in Wyoming [available volume of approximately 40,000 acre feet]; proposed Cactus Hill Reservoir near Fort Collins, CO [185,000 acre-foot capacity]; and the proposed T-Cross Reservoir to be constructed near Pueblo, CO [25,000 acre-foot capacity]); outlet structures at each reservoir consisting of water treatment facilities; on-site transformers and overhead power lines from local electrical grids for the water withdrawal and storage reservoir facilities; and water delivery systems from the storage reservoirs to water users.

The potential water users for the proposed project would include agriculture, municipalities, and industries in southeastern Wyoming and the Front Range of Colorado. In Wyoming, approximately 25,000 acre-feet of water would be delivered annually to users in the Platte River Basin. The remaining 225,000 acre-feet of water would be delivered annually to the South Platte River and Arkansas River basins in Colorado.

The EIS will be prepared according to the COE's procedures for implementing the NEPA of 1969, as amended, 42 U.S.C. 4232(2)(c), and consistent with the COE's policy to facilitate public understanding and review of agency proposals. As part of the EIS process, a full range of reasonable alternatives, including the Proposed Action and No Action, will be evaluated. Additional alternatives defined at this time by the applicant include four alternative withdrawal points that would involve withdrawal only from the Green River (two separate points) or Flaming Gorge Reservoir (two separate points). A different pipeline segment would connect each alternative withdrawal point to the mainstem pipeline route. Alternative storage reservoirs in the Front Range of Colorado also may be considered for the Project.

The COE has invited the U.S. Bureau of Reclamation, U.S. Bureau of Land Management, the U.S. Forest Service, the U.S. Environmental Protection Agency, and the U.S. Fish and Wildlife Service to be cooperating agencies in the preparation of the EIS. Other Federal and State agencies will participate in the EIS review process to ensure compliance with relevant laws and regulations.

Timothy T. Carey,
Chief, Denver Regulatory Office.

[FR Doc. E9-6170 Filed 3-19-09; 8:45 am]

BILLING CODE 3720-58-P